ENVIRONMENTAL PROTECTION AGENCY

[FRL-7846-5]

Clean Water Act Section 303(d): Availability of Total Maximum Daily Loads. (TMDL)

AGENCY: Environmental Protection Agency (EPA).

ACTION: Notice of availability.

SUMMARY: This notice announces the availability for comment of the administrative record files for 9 TMDLs and the calculations for these TMDLs prepared by EPA Region 6 for waters listed in the Atchafalaya River, Barataria, Calcasieu River, Lake Pontchartrain, Mermentau River, Vermilion-Teche River, Mississippi River, Sabine River, and Terrebonne Basins of Louisiana, under section 303(d) of the Clean Water Act (CWA). These TMDLs were completed in response to a court order in the lawsuit styled Sierra Club, et al. v. Clifford, et al., No. 96-0527, (E.D. La.).

DATES: Comments must be submitted in writing to EPA on or before January 10, 2005.

ADDRESSES: Comments on the 9 TMDLs should be sent to Linda Adams, Environmental Scientist, Water Quality Protection Division, U.S. Environmental Protection Agency Region 6, 1445 Ross Ave., Dallas, TX 75202-2733 or email: adams.lindak@epa.gov. For further information, contact Linda Adams at (214) 665-6546 or fax (214) 665-2191. The administrative record files for the 9 TMDLs are available for public inspection at this address as well. Documents from the administrative record files may be viewed at www.epa.gov/region6/water/tmdl.htm, or obtained by calling or writing Ms. Adams at the above address. Please contact Ms. Adams to schedule an inspection.

FOR FURTHER INFORMATION CONTACT: Linda Adams at (214) 665-6546.

SUPPLEMENTARY INFORMATION: In 1996, two Louisiana environmental groups, the Sierra Club and Louisiana Environmental Action Network (plaintiffs), filed a lawsuit in Federal Court against the EPA, styled Sierra Club, et al. v. Clifford, et al., No. 96-0527, (E.D. La.). Among other claims, plaintiffs alleged that EPA failed to establish Louisiana TMDLs in a timely manner. EPA proposes these TMDLs pursuant to a consent decree entered in this lawsuit.

EPA Seeks Comment on 9 TMDLs

By this notice EPA is seeking comment on the following 9 TMDLs for waters located within Louisiana basins:

Subsegment | Waterbody Name | Pollutant
010901 | Atchafalaya Bay and Delta and Gulf Waters to the State 3-mile Limit | Mercury.
021102 | Barataria Basin Coastal Bays and Gulf Waters to the State 3-mile Limit | Mercury.
031201 | Calcasieu River Basin Coastal Bays and Gulf Waters to the State 3-mile Limit | Mercury.
042209 | Lake Pontchartrain Basin Coastal Bays and Gulf Waters to the State 3-mile Limit | Mercury.
050901 | Mermentau River Basin Coastal Bays and Gulf Waters to the State 3-mile Limit | Mercury.
061201 | Vermilion-Teche River Basin Coastal Bays and Gulf Waters to the State 3-mile Limit | Mercury.
070601 | Mississippi River Basin Coastal Bays and Gulf Waters to the State 3-mile Limit | Mercury.
110701 | Sabine River Basin Coastal Bays and Gulf Waters to the State 3-mile Limit | Mercury.
120806 | Terrebonne Basin Coastal Bays and Gulf Waters to the State 3-mile Limit | Mercury.

EPA requests that the public provide to EPA any water quality related data and information that may be relevant to the calculations for the 9 TMDLs. EPA will review all data and information submitted during the public comment period and revise the TMDLs where appropriate. EPA will then forward the TMDLs to the Louisiana Department of Environmental Quality (LDEQ). The LDEQ will incorporate the TMDLs into its current water quality management plan.

Dated: December 2, 2004.
James R. Brown,
Acting Director, Water Quality Protection Division, Region 6.

[FR Doc. 04-27029 Filed 12-8-04; 8:45 am]

BILLING CODE 6560-50-P